FEDERAL COMMUNICATIONS COMMISSION

47 CFR Part 73

[MB Docket No. 23-336; RM-11967; DA 23-936; FR ID 177970]

Television Broadcasting Services Wittenberg and Shawano, Wisconsin

AGENCY: Federal Communications Commission.

ACTION: Proposed rule.

SUMMARY: The Video Division, Media Bureau (Bureau) has before it a petition for rulemaking filed by TV-49, Inc. (Petitioner or TV-49), the permittee of an unbuilt television station on channel 31 allotted to Wittenberg, Wisconsin. TV-49 requests an amendment of the Table of TV Allotments to delete channel 31 at Wittenberg and substitute channel 31 at Shawano, Wisconsin, consistent with the technical parameters set forth in the Petition, as amended. The Petitioner further requests modification of its construction permit to specify Shawano as its community of license.

DATES: Comments must be filed on or before November 20, 2023 and reply comments on or before December 4, 2023.

ADDRESSES: Federal Communications Commission, Office of the Secretary, 45 L Street NE, Washington, DC 20554. In addition to filing comments with the FCC, interested parties should serve counsel for the Petitioner as follows: Matthew S. Delnero, Esq., Covington & Burling, LLP, 850 Tenth Street NW, Washington, DC 20001.

FOR FURTHER INFORMATION CONTACT: Joyce Bernstein, Media Bureau, at (202) 418-1647; or Joyce Bernstein, Media Bureau, at Joyce.Bernstein@fcc.gov.

SUPPLEMENTARY INFORMATION: The Commission has stated that it will apply the modification procedure in section 1.420(i) of the rules, which provides that the Commission may, in connection with a rulemaking proceeding to amend the Table of TV Allotments, modify a station's license or construction permit to specify a new community of license without affording other interested parties an opportunity to file competing expressions of interest, where the new allotment will be mutually exclusive with a station's existing allotment. The Technical Exhibit submitted with the Amended Petition demonstrates that the proposed allotment of channel 31 at Shawano is mutually exclusive with the current allotment at Wittenberg, and is otherwise in compliance with all of our technical rules. The Petitioner also emphasizes that Wittenberg will not lose any existing service because as a permittee, TV-49 has not commenced operations in Wittenberg, and thus no viewers have come to rely on any existing service, a factor the Commission has found to be mitigating in the context of whether it would remove the sole channel allotted to a community. Moreover, the Petitioner states that the communities are only thirty miles apart and Wittenberg will still be within the noise limited contour of the channel 31 facility constructed at Shawano. The Petitioner further asserts that providing Shawano, the county seat of Shawano County and a community that is nine times larger than Wittenberg, with its first local television service is the type of rare circumstance which justifies a waiver of the general prohibition on the removal of a community's sole first local service. According to the Petitioner, Shawano's Census 2020 population is 9,243 people, while Wittenberg's Census 2020 population is 1,015. Shawano is governed by a mayor and six alderpersons, who collectively comprise its Common Council. The Shawano school district operates five public schools, there are also three religiously-affiliated private schools in Shawano, and Northeast Wisconsin Technical College also operates a Regional Learning Campus in Shawano. Shawano also provides a number of municipal services through the Shawano-Bonduel Municipal Court, the Shawano Department of Public Works, the Shawano Police Department, and the Shawano Municipal Utilities. Petitioner states that given the foregoing, it is clear that Shawano has the population and public services indicative of a community deserving of its own television station. Moreover, the Petitioner asserts that six licensed full power television stations currently provide noise-limited service to all of Wittenberg and the Petitioner demonstrates that once the Station commences operations it will also provide noise-limited service to Wittenberg.

This is a synopsis of the Commission's Notice of Proposed Rulemaking, MB Docket No. 23-336; RM-11967; DA 23-936, adopted October 6, 2023, and released October 6, 2023. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

2. In § 73.622, in the table in paragraph (j), under Wisconsin, add an entry for “Shawano” in alphabetical order, and revise the entry for “Wittenberg” to read as follows:

§ 73.622 Digital television table of allotments.

* * * * *

(j) * * *

Community | Channel No.
* * * * *
Wisconsin
* * * * *
Shawano | 31
* * * * *
Wittenberg |
* * * * *

[FR Doc. 2023-22861 Filed 10-19-23; 8:45 am]

BILLING CODE 6712-01-P